DEPARTMENT OF ENERGY

Federal Energy Regulatory Commission

[Docket No. CP00-387-000]

PNM Gas Services, a Division of Public Service Company of New Mexico, and PNM Electric and Gas Services, Inc.; Notice of Application

June 21, 2000.

Take notice that on June 13, 2000, PNM Electric and Gas Services, Inc. (UtilityCo) and PNM Gas Services, A Division of Public Service Company of New Mexico (PNM), collectively referred to as applicants, both at Alvarda Square, Albuquerque, New Mexico, 87158, jointly filed an application in the above referenced docket pursuant to Section 7 of the Natural Gas Act to allow PNM to transfer its one-third undivided interest in certain natural gas facilities, designated as the Blanco Hub, to UtilityCo, all as more fully set forth in the application which is on file with the Commission and which is open to the public for inspection. The filing may be viewed at http://www.ferc.fed.us/online/rims.htm (call 202-208-2222 for assistance).

Applicants state their filing is being made in connection with the corporate reorganization of Public Service Company of New Mexico mandated by the state of New Mexico's Electric Utility Industry Restructuring Act of 1999 (Restructuring Act). Applicants further state the purpose and substantive effect of their proposals will be to permit the PNM corporate family to continue to conduct the same business activity previously authorized by the Commission but using new corporate entities required by the Restructuring Act. Thus, UtilityCo is not seeking in Docket No. CP00-387-000 any authorizations that are different from those currently held by PNM. In addition, the applicants state that there will be no change in rates charged by UtilityCo.

Pursuant to Section 7(b) of the NGA and Part 157 of the Commission's Regulations, PNM seeks approval to abandon by sale and conveyance to UtilityCo its one-third interest in the Blanco Hub facilities. At the same time, UtilityCo requests that the Commission grant it a certificate of public convenience and necessity asserting only limited jurisdiction over UtilityCo's acquired interest in the Blanco Hub. The filing indicates that UtilityCo will acquire this interest at net book value. In addition, PNM requests that the Commission: (1) Determine that UtilityCo may own and use its share of the Blanco Hub without jeopardizing its Hinshaw exemption; (2) authorize UtilityCo to participate in any additional construction or changes that Northwest and Transwestern are authorized to make under their respective blanket authorizations to the same extent as if UtilityCo held such blanket authorization; ¹ and (3) waive all reporting, filing, and accounting requirements that normally apply to natural gas companies to the extent UtilityCo uses its interest in the facilities for transportation or sales under either its Subpart G blanket certificate or its marketing certificate.²

¹ In order to permit UtilityCo to construct, own, and operate its pro rata share of any additional facilities that may be added to the Blanco Hub, UtilityCo requests the Commission grant UtiliyCo the same limited blanket authorization that was granted to PNM. See 59 FERC at 62,493.

² On June 13, 2000, PNM and UtilityCo concurrently filed a joint application in Docket No. CP00-388-000 requesting among other things a blanket certificate for UtilityCo authorizing it to transport and sell natural gas in interstate commerce pursuant to sections 311 and 312 of the Natural Gas Policy Act of 1978 (NGPA).

Any person desiring to be heard or to make any protest with reference to said application should on or before July 10, 2000, file with the Federal Energy Regulatory Commission, 888 First Street, N.E., Washington, D.C. 20426, a motion to intervene or a protest in accordance with the requirements of the Commission's Rules of Practice and Procedure (18 CFR 385.214 and 385.211). All protests filed with the Commission will be considered by it in determining the appropriate action to be taken, but will not serve to make the protestants parties to the proceeding. Any person wishing to become a party to a proceeding or to participate as a party in any hearing therein must file a motion to intervene in accordance with the Commission's Rules.

A person obtaining intervenor status will be placed on the service list maintained by the Secretary of the Commission and will receive copies of all documents filed by the applicant and by every one of the intervenors. An intervenor can file for rehearing of any Commission order and can petition for court review of any such order. However, an intervenor must submit copies of comments or any other filings it makes with the Commission to every other intervenor in the proceeding, as well as an original and 14 copies with the Commission.

A person does not have to intervene, however, in order to have environmental comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court.

The Commission will consider all comments and concerns equally, whether filed by commenters or those requesting intervenor status.

Take further notice that, pursuant to the authority contained in and subject to jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its motion believes that a formal hearing is required, further notice of such hearing will be duly given.

Under the procedure herein provided for, unless otherwise advised, it will be unnecessary for Applicants to appear or be represented at the hearing.

David P. Boergers,
Secretary.

[FR Doc. 00-16125 Filed 6-26-00; 8:45 am]

BILLING CODE 6717-01-M